NUCLEAR REGULATORY COMMISSION

[Docket Nos. 50-293 and 72-1044; NRC-2023-0040]

Holtec Decommissioning International, LLC; Pilgrim Nuclear Power Station Independent Spent Fuel Storage Installation

AGENCY: Nuclear Regulatory Commission.

ACTION: Exemption; issuance.

SUMMARY: The U.S. Nuclear Regulatory Commission (NRC) has issued an exemption to Holtec Decommissioning International, LLC, (HDI), for Pilgrim Nuclear Power Station (PNPS), Independent Spent Fuel Storage Installation (ISFSI). The exemption allows PNPS to deviate from the requirements in Certificate of Compliance (CoC) No. 1014, Amendment No. 14, Appendix A, Technical Specifications (TS) for the HI-STORM 100 System, Section 5.4, “Radioactive Effluent Control Program,” subsection c related to the timing of submission for an annual radiological effluent report.

DATES: The exemption was issued on January 31, 2023.

ADDRESSES: Please refer to Docket ID NRC-2023-0040 when contacting the NRC about the availability of information regarding this document. You may obtain publicly available information related to this document using any of the following methods:

• Federal Rulemaking Website: Go to https://www.regulations.gov and search for Docket ID NRC-2023-0040. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Tilda Liu, Office of Nuclear Material Safety and Safeguards, U.S. Nuclear Regulatory Commission, Washington, DC 20555-0001; telephone: 404-997-4730, email: Tilda.Liu@nrc.gov.

SUPPLEMENTARY INFORMATION:

I. Background

Holtec Decommissioning International, LLC, (HDI) submitted a request to the NRC for an exemption from title 10 of the Code of Federal Regulations (10 CFR) 72.212(a)(2), (b)(2), (b)(3), (b)(4), (B)(5)(i), (b)(11), and 72.214 for Pilgrim Independent Spent Fuel Storage Facility (ISFSI) Annual Radioactive Effluent Release Report (ARERR), by letter dated August 29, 2022 (ADAMS Accession No. ML22241A112), as supplemented by letter dated December 9, 2022 (ADAMS Accession No. ML22343A165). In particular, the exemption request, if approved, would allow Pilgrim Nuclear Power Station (PNPS) to deviate from the requirements in Certificate of Compliance (CoC) No. 1014, Amendment No. 14, Appendix A, Technical Specifications (TS) for the HI-STORM 100 System, Section 5.4, “Radioactive Effluent Control Program,” subsection c related to the timing of submission for its ARERR.

In its August 29, 2022 letter, HDI requested relief regarding the 60-day reporting requirement, so that the annual liquid and gaseous effluent release report for the PNPS ISFSI be incorporated into, and submitted with, the Pilgrim site ARERR on or before May 15, rather than prior to March 1, of each year to align with the submittal of its ARERR as required by PNPS Renewed Facility Operating License, DPR-35, PNPS Defueled Safety Analysis Report Section 5.0, “Administrative Controls,” Appendix B, Section B-5.6.3, “Radioactive Effluent Release Report.”

II. Discussion

The NRC issued an exemption (ADAMS Package Accession No. ML22356A070) to HDI for the PNPS ISFSI. The exemption granted provides relief from the 60-day requirement so that the annual effluent release report for the PNPS ISFSI may be submitted on or before May 15, rather than prior to March 1, of each year. The granted exemption only changes the due date and not the content of the information that the licensee would provide in the annual report.

III. Conclusion

Based on the staff's evaluation, the NRC has determined that, pursuant to 10 CFR 72.7, “Specific Exemptions,” the exemption is authorized by law, will not endanger life or property or the common defense and security, and is otherwise in the public interest. Accordingly, the NRC granted HDI an exemption from 10 CFR 72.212(a)(2), (b)(2), (b)(3), (b)(4), (b)(5)(i), (b)(11), and 72.214.

Dated: February 16, 2023.
For the Nuclear Regulatory Commission.
Tilda Y. Liu,
Acting Chief, Storage and Transportation Licensing Branch, Division of Fuel Management, Office of Nuclear Material Safety and Safeguards.

[FR Doc. 2023-03695 Filed 2-22-23; 8:45 am]

BILLING CODE 7590-01-P